ENVIRONMENTAL PROTECTION AGENCY

[FRL-10978-01-R3]

Clean Water Act: Identification of Water Quality-Limited Segments To Be Added to West Virginia's Section 303(d) List

AGENCY: Environmental Protection Agency (EPA).

ACTION: Public notice.

SUMMARY: The Clean Water Act (CWA) requires that states periodically submit, and the Environmental Protection Agency (EPA) approve or disapprove, lists of waters (called “Section 303(d) lists”) for which existing technology-based pollution controls are not stringent enough to attain or maintain State water quality standards and for which total maximum daily loads (TMDLs) must be prepared. Waters identified on Section 303(d) lists are called “water quality-limited segments.” This notice announces the EPA's identification of certain additional water quality-limited segments for West Virginia's Combined 2018-2020-2022 Section 303(d) list and requests public comment on those additions.

DATES: Comments must be received on or before August 18, 2023.

ADDRESSES: You may send written comments to Mr. Gregory Voigt by the following methods:

• Electronic mail: voigt.gregory@epa.gov. Include `FRL-10978-01-R3 comment' in the subject line of the message.

• Mail: Mr. Gregory Voigt, Mail Code 3WD42, U.S. Environmental Protection Agency Region 3 Water Division, Four Penn Center, 1600 John F. Kennedy Blvd., Philadelphia, PA 19103-2029.

FOR FURTHER INFORMATION CONTACT: Mr. Gregory Voigt, Water Division Standards and TMDL Section, 3WD42, Environmental Protection Agency at voigt.gregory@epa.gov or (215) 814-5737. Additional information regarding the basis for this EPA action is available at https://www.epa.gov/tmdl/wv-303d-list-public-notice.

SUPPLEMENTARY INFORMATION: Section 303(d) of the Clean Water Act requires that each state identify those water quality-limited segments for which existing technology-based pollution controls are not stringent enough to attain or maintain state water quality standards and for which total maximum daily loads (TMDLs) must be prepared. For each water quality-limited segment on the list, the state identifies the pollutant causing the impairment, when known. In addition, the state assigns a priority ranking for development of TMDLs based on the severity of the pollution and the uses to be made of the waters, among other factors (40 CFR 130.7(b)(4)).

The EPA's Water Quality Planning and Management regulations include requirements related to the implementation of Section 303(d) of the CWA (40 CFR 130.7). The regulations require states to assemble and evaluate all existing and readily-available water quality data and to use that data to identify water quality-limited segments still requiring TMDLs every two years. Where a state does not use certain data, it must provide a rationale. The list of waters still needing TMDL development must also include priority rankings and must identify the waters targeted for TMDL development during the next two years (40 CFR 130.7).

The EPA received West Virginia's submittal of its listing decisions under Section 303(d)(2) on May 5, 2023. On June 1, 2023, the EPA partially approved and partially disapproved West Virginia's Combined 2018-2020-2022 Section 303(d) list of water quality-limited segments based upon the Agency's finding that West Virginia did not use certain water quality information and therefore did not identify certain water quality-limited segments based upon existing data and public input. The EPA analyzed the information and identified three-hundred forty-six (346) additional water quality-limited segments for inclusion on West Virginia's Combined 2018-2020-2022 Section 303(d) list. These water quality-limited segments are identified in Enclosure 3 of the June 1, 2023 decision document and displayed on an interactive webmap, both of which are available at the website link provided.

The EPA is providing the public an opportunity to review and comment on its identification of these water quality-limited segments for West Virginia's Combined 2018-2020-2022 Section 303(d) list as required by 40 CFR 130.7(d)(2). The EPA will consider public comments and make any appropriate revisions before transmitting its final list of water quality-limited segments to the State.

Catherine Libertz,
Director, Water Division, Region III.

[FR Doc. 2023-15325 Filed 7-18-23; 8:45 am]

BILLING CODE 6560-50-P